DEPARTMENT OF THE INTERIOR

Bureau of Indian Affairs

Proposed Finding Against Federal Acknowledgment of the Golden Hill Paugussett Tribe

AGENCY: Bureau of Indian Affairs, Interior.

ACTION: Notice of proposed finding.

SUMMARY: Pursuant to 25 CFR 83.10(h), notice is hereby given that the Assistant Secretary—Indian Affairs (AS-IA) proposes to decline to acknowledge that the Golden Hill Paugussett Tribe (GHP), c/o Mr. Aurelius H. Piper, Jr., Suite 236, 1440 Whalley Avenue, New Haven, Connecticut, 06515, is an Indian tribe within the meaning of Federal law. This notice is based on a determination that the petitioner does not satisfy all seven of the criteria set forth in 25 CFR Part 83.7, specifically criteria (b), (c), and (e), and therefore does not meet the requirements for a government-to-government relationship with the United States.

DATES: Publication of the AS-IA's notice of the proposed finding in the Federal Register initiates a 180-day comment period during which the petitioner, interested parties, informed parties, and the public may submit arguments and evidence to support or rebut the evidence relied upon in the proposed finding. Interested or informed parties must provide a copy of their comments to the petitioner. The regulations, 25 CFR 83.10(k), provide petitioners a minimum of 60 days to respond to any submissions on the proposed findings received from interested and informed parties during the comment period.

ADDRESSES: Comments on the proposed finding or requests for a copy of the report which summarizes the evidence, reasoning, and analyses that are the basis for this proposed finding, or a list of parties in the litigation, should be addressed to the Bureau of Indian Affairs, Branch of Acknowledgment and Research, 1849 C Street, NW., Mailstop 4660-MIB, Washington, DC 20240.

FOR FURTHER INFORMATION CONTACT: R. Lee Fleming, Chief, Branch of Acknowledgment and Research, (202) 208-3592.

SUPPLEMENTARY INFORMATION: This notice is published in accordance with authority delegated by the Secretary of the Interior (Secretary) to the AS-IA by 209 DM 8.

The GHP group's petition #81 is being considered under a court-approved negotiated agreement in pending litigation. This agreement, entered December 14, 2001, established time lines for the submission of materials to the Department of the Interior (Department) and deadlines for submitting comments, and issuing a proposed finding. The agreement neither modifies the regulatory time periods following the issuance of the proposed finding, nor modifies the criteria or the standards required to demonstrate that the criteria are met.

The GHP group submitted a letter of intent to the Department on April 13, 1982, to petition for Federal acknowledgment as an Indian tribe, a documented petition on April 12, 1993, and the Bureau of Indian Affairs (BIA) placed them on the “Ready, Waiting for Active Consideration” list on November 21, 1994. The BIA processed the GHP petition under 25 CFR 83.10(e), which permits an evaluation on only one criterion if the petition and response to the technical assistance review indicates that there is little or no evidence to demonstrate that a group can meet the criteria in 83.7(e), (f), or (g).

The Department published a notice of the proposed finding on June 8, 1995, in the Federal Register that declined to acknowledge that the GHP existed as an Indian tribe (60 FR 30430). The Department found the evidence clearly established that the GHP group did not meet the mandatory criterion 83.7(e), descent from a historical Indian tribe. Following an evaluation of the evidence submitted during the comment periods, the AS-IA issued a final determination on September 16, 1996 (61 FR 50501). The AS-IA concluded that the evidence did not establish a reasonable likelihood of the validity of the facts (see 25 CFR 83.6(d)) that the petitioner descended from a historic tribe, or that William Sherman, the ancestor through whom the GHP claimed tribal descent, had ancestry either from the historical Golden Hill tribe or from any other identified historical Indian tribe.

The GHP petitioner filed a request for reconsideration of the final determination with the Interior Board of Indian Appeals (IBIA) on December 26, 1996, pursuant to 25 CFR 83.11(b)(2). Another group, the Golden Hill Paugeesukg Tribal Nation, also requested reconsideration, claiming to be the actual governing body of the petitioning group. On September 8, 1998, the IBIA affirmed the decision not to acknowledge the GHP group as an Indian tribe, but referred five allegations of error to the Secretary (33 IBIA 4, 1998).

On December 22, 1998, the Secretary, without evaluating the merits, requested the AS-IA to address the five issues and provide a reconsidered determination in accordance with the applicable regulations. The AS-IA recused himself of this decision, and, on May 24, 1999, the Deputy AS-IA issued a reconsidered decision and an order that the GHP petition be considered under all seven mandatory criteria of the acknowledgment regulations. The Deputy AS-IA also ordered active consideration of the petition be suspended until the GHP petitioner made additional submissions, which it did, whereupon the BIA resumed active consideration.

On April 3, 2001, the GHP petitioner filed a complaint pursuant to the Administrative Procedure Act requesting the court to compel the Department to establish a date by which it would issue the new proposed finding under all seven mandatory criteria. The parties reached an agreement in December 2001, whereby the Department agreed to issue a proposed finding on or before January 21, 2003, after which consideration of the petition would be governed by the regulations. The Department began consideration of the evidence for the proposed finding on July 22, 2002.

The GHP petitioner meets criterion 83.7(a), which requires that the petitioner has been identified as an American Indian entity on a substantially continuous basis since 1900. The available identifications apply to a historical, state-recognized, Golden Hill entity, from which a portion of the petitioner's current membership claims descent. The available identifications do not pertain to the portion of the group, added in 1999, which claims descent from a historical Turkey Hill entity, and which the petitioner now contends was always a part of the historical Golden Hill entity. For criteria 83.7(b) and 83.7(c), the record provided does not demonstrate that a Golden Hill group and a Turkey Hill group ever combined and functioned as a single autonomous political entity. For the purposes of criterion 83.7(a), none of the available evidence shows that any outside observers at any time since 1900 identified such a combined group of Golden Hill and Turkey Hill Indians as a single Indian entity. Also, the available evidence does not identify the existence of a separate Turkey Hill group as an American Indian entity on a substantially continuous basis since 1900.

From 1900 onwards, the Golden Hill antecedents of the GHP petitioner have been identified on a substantially continuous basis as an American Indian entity in Federal and State documents, by academics, and newspaper articles. Identifications included two reports compiled in the 1940's by a Library of Congress researcher, William H. Gilbert, and published by the Government Printing Office. There was an identification from 1971 in a BIA publication. The State of Connecticut (State) generated documents that included legislative acts, official correspondence, minutes, and correspondence of State and local agencies, and the assignment of a seat on the Connecticut Indian Affairs Council to the Golden Hill in 1974. Identifications by academics during the 20th century included Theodore Taylor (1972), Neal Salisbury (1982), Alvin Josephy (1982), and Franz Laurens Wojciechowski (1992). Multiple newspaper articles appeared in every decade from the 1930's to the present.

The GHP does not meet criterion 83.7(b), which requires that a predominant portion of the petitioning group comprises a distinct community and has existed as a community from historical times until the present. The petitioner claims that a portion of its membership descends from the historical Golden Hill Indians, which evolved from a portion of the historical Pequannock tribe. During first sustained contact with non-Indians in the 1630's, the Pequannock tribe lived along the Pequonnock River in modern-day Bridgeport, Connecticut. The Colony of Connecticut set aside a reservation for the historical Golden Hill as early as 1639, on which the group resided until 1802, when the last portions of the reservation were sold by a State-appointed overseer with the approval of the historical Golden Hill and the Connecticut General Assembly.

In 1999, the petitioner's membership more than doubled. The new members, 68 percent of the named individuals on the 1999 membership list, claim descent from two individuals whom they believe to descend from the historical Turkey Hill Indians, a group which evolved from the historical Paugussett, one of the Indian tribes that resided in southwestern Connecticut in the Housatonic River valley at the time of first sustained contact with non-Indians.

The families at the Turkey Hill reservation, established by the Colony of Connecticut in 1680, evolved from the historical Paugussett, while those living at the Golden Hill reservation were originally part of the historical Pequannock, a separate tribe. The colonial (and later State) authorities consistently viewed and identified the historical Turkey Hill group as separate from the historical Golden Hill group. Both groups had separate colonial (later State) appointed guardians and were treated in the colonial and later state records as distinct and separate groups of people. The available record does not demonstrate that any continuous government-to-government relationship between the State and a Turkey Hill Indian entity existed after 1871, when the overseer sold the last of the Turkey Hill State reservation.

The evidence in the record does not demonstrate consistent interactions or significant social relationships between the historical Turkey Hill and historical Golden Hill groups after the establishment of their reservations. In order to demonstrate the existence of historical community, the petitioner would need to submit evidence that demonstrates such interactions and relationships existed. Nor does the documentary record demonstrate the historical Golden Hill exercised any political influence or authority over the historical Turkey Hill group, or vice versa. The available evidence does not demonstrate that the two groups functioned as a single autonomous political entity. In order to demonstrate an assertion of descent from two historical tribes that amalgamated and functioned as a single entity, the petitioner would need to submit evidence of political amalgamation.

In addition, the portion of the petitioning group presently claiming descent from the historical Turkey Hill has not demonstrated ancestry from that entity. The available record also does not demonstrate that this portion of the GHP ever functioned as a group, or had any significant interaction with a Golden Hill entity. Because a separate historical social community among the Turkey Hill Indians is not linked to the historical Golden Hill, it does not demonstrate criterion 83.7(b) for the GHP petitioner or its antecedents. Accordingly, this proposed finding focuses on the historical Golden Hill for evidence of community under criterion 83.7(b).

For the period from 1637 to the 1730's, there is sufficient evidence that the historical Golden Hill comprised a distinct community. The petitioner provided evidence, including population statistics, of the occupation of a distinct area, of land disputes with colonial settlers, and of some religious ceremonies and missionary activities. When evaluating tribes in the early years of contact with non-Indians, before substantial cultural and political changes occurred, this combined evidence is sufficient to demonstrate criterion 83.7(b) from 1637 to the 1730's for the historical Golden Hill.

For the period from the 1730's to 1802, there is also sufficient evidence that the historical Golden Hill comprised a distinct community. Population statistics demonstrate a rapidly declining but generally distinct community. The petitioner submitted evidence that demonstrates the historical Golden Hill resisted land infringements by non-Indians, particularly for the period from 1763 to 1802. These documents included petitions to the General Court (later General Assembly) and Colonial and State reports. The petitioner also provided a set of overseer records from 1763 to 1780 that present good evidence of continued community for a very small group of people. Such combined evidence is sufficient to demonstrate criterion 83.7(b) from the 1730's to 1802 for the historical Golden Hill.

There is sufficient evidence that the historical Golden Hill comprised a distinct community until approximately 1823. Overseers' reports after the sale of the historical Golden Hill's Bridgeport reservation in 1802 gave good insight into the composition of the group at the time, including interaction among Golden Hill members and their relatives living in Woodbridge, Connecticut. In 1823, the overseer also took a census, which named six adults and the unnamed daughters of three of the women. Some individuals on this census appeared in subsequent reports until 1826, when detailed overseers' reports ceased. Taken together, the evidence is sufficient to demonstrate criterion 83.7(b) for the portion of the group claiming descent from the historical Golden Hill group up to 1823.

After the 1823 census, the historical Golden Hill community ceased to appear as a group in the documented record. Several members died, left the area, or otherwise disappeared from the historical record for this period. The overseers paid more attention to the Golden Hill fund than to any group that may have continued, and their sporadic reports after 1826 contained little detail of who constituted the survivors. Smallpox was reported to have killed several members of related Indians in the 1830's in (what was then the town of) Derby, and there is no evidence presented of further interaction among the named Golden Hill fund claimants.

By 1841, the documented claimants to the benefits of the fund were two women, Ruby Mansfield and Nancy Sharpe and their unnamed children, for whom the State purchased land using money from the Golden Hill fund. Petitions filed with the State by these two women in 1841 and 1846 do not demonstrate sufficient communal activity or provide acceptable evidence of the continuation of a group. An overseer's reference in 1846 to the existence of other possible claimants neither named them nor described a community. After 1849, these two women do not appear in the record. The historical group fragmented by 1849, and by that time appears to have ceased to exist. Therefore, the petitioner does not meet criterion 83.7(b) from the period 1824 to 1849.

For 1849 to 1887, the evidence submitted is not sufficient to demonstrate that the historical Golden Hill group maintained a distinct community. Most of the available evidence for this period concerned William Sherman, an individual who resided in Trumbull, Connecticut, after 1857, who the petitioner claims provided leadership for a Golden Hill group at this time. William Sherman was not identified as an Indian in any records before 1870. There is nothing in the available record to indicate that William Sherman was part of an identifiable Golden Hill entity, nor is there evidence that he provided leadership or had followers.

The petitioner maintains that Sherman's leadership efforts during this period included establishing an “Indian” portion of a cemetery in Trumbull and arranging for land he purchased to be held in trust by the State for the benefit of a Golden Hill group after his death. The available evidence does not support these claims. Many non-Indians were buried in the “Indian” portion of the cemetery, and a number of William Sherman's own children, who died before he did, were not buried there. William Sherman, in 1875, purchased ¼ of an acre in Trumbull and built a house on the property using the land as collateral on an $800 mortgage received from the Golden Hill fund. Sherman's activities were similar to other non-Indians who also received mortgages from the Golden Hill fund. He was not identified as a beneficiary of the Golden Hill fund or as a member of any Golden Hill group on any of these transactions or any other official records. There is no evidence that this property functioned during his lifetime as land belonging to any identifiable group, or on which group activities occurred. Further, the activities in which Sherman engaged during his lifetime do not demonstrate any type of group activity. Therefore, the evidence presented for this period does not demonstrate the existence of community.

There is insufficient evidence presented to meet criterion 83.7(b) for 1887 to 1933. Most of the evidence submitted during this time period dealt with just two members of the Sherman family, George Sherman and his daughter, Ethel Sherman. Much of the evidence concerned an ongoing conflict over claims by Ethel Sherman to the ¼ acre property in Trumbull, Connecticut. However, there is insufficient evidence to indicate that these claims were made at the behest or for the benefit of anyone but Ethel Sherman. There are no available documents or letters signed by or attested to by a group to demonstrate that this property was of importance to a wider group of members. The property, declared a State reservation in 1933, would continue to be a point of contention for years to come, but until the 1970's, it does not appear that its fate concerned anyone except the direct descendants of George (and later Ethel) Sherman.

In summary, for the 47-year period from the death of William Sherman in 1886 and the establishment of the Trumbull property as a reservation in 1933, the petitioner has not demonstrated significant social interaction among members of an antecedent group. This lack of evidence for interaction is compounded by the unclear definition of who constituted the group during this period. Some Sherman family members continued to reside on the Trumbull property, but this fact is not evidence of a “group” interacting during these years. There is no submitted documentary evidence demonstrating the composition of a group that extended beyond some Sherman family members. Therefore, the materials submitted for 1897 to 1933 are not sufficient evidence of community for the portion of the petitioner claiming descent from the historical Golden Hill Indians.

The petitioner does not meet criterion 83.7(b) for the period 1933 to 1973. The petitioner has not submitted documentation that demonstrates any interaction occurring between the Sherman family siblings and any other larger group. The petitioner argues that knowledge was communicated orally among group members at regular gatherings, yet failed to provide specific evidence that such gatherings occurred. Abstracts from some interviews with members of the group contend that visiting among the various individuals and families occurred. However, the petitioner did not provide any specific evidence identifying the location, frequency, or content of such visiting. Therefore, the evidence presented by the petitioner is insufficient to demonstrate the existence of a distinct community for the period 1933 to 1973.

The petitioning group appears as an identifiable entity around 1973 under the leadership of Aurelius Piper, Sr, when it is now possible to see the participation of members in an identifiable organization. However, the organization appears to have been made up mostly of individuals who were closely related to Aurelius Piper, Sr. (i.e., his children, siblings, or nieces and nephews). There are no records of a group of GHP members interacting through attendance at social gatherings or at significant events. Although Aurelius Piper, Sr. and some of his children were active in trying to establish the social life of the GHP, they do not seem to have met with much success. Aurelius Piper, Sr. even voiced numerous complaints in the 1970's and 1980's about the inability of the group's members to act together in any significant fashion.

Since the mid-1990's, none of the documentation demonstrates that the petitioner has maintained a distinct community. The evidence presented by the petitioner, therefore, is insufficient to meet criterion 83.7(b) for the period 1972 to the present. In summary, the evidence shows that the historical Golden Hill dwindled from a viable community last identified in a 1823 overseer's census to two women who had petitioned the State in 1841 and 1846. The evidence for William Sherman and subsequent generations of GHP descendants does not demonstrate that this small family was part of a distinct community. Therefore, the GHP does not meet criterion 83.7(b) for any time since 1823.

The petitioner does not meet criterion 83.7(c), which requires a petitioner and its antecedents to have maintained political influence over its members as an autonomous entity from historical times to the present. The historical Golden Hill Indians and the historical Turkey Hill Indians were separate tribes that shared a similar culture and language. Land purchase documents for the 17th and 18th centuries show two separate entities. The Colony and later the State treated the historical Golden Hill and historical Turkey Hill as distinct political and legal entities evidence by separate reservations and overseers during this period. Therefore, evidence of political authority for the historical Turkey Hill Indians does not demonstrate the same for the historical Golden Hill Indians, and vice versa. The available evidence does not show that the two groups ever formed a single autonomous political entity. If the petitioner asserts that a historical amalgamation of the two groups occurred, it needs to submit specific evidence to demonstrate this amalgamation. Accordingly, the following summary focuses on the political influence of the historical Golden Hill and its predecessors.

For the period from the 1630's to 1761, there is sufficient evidence to demonstrate that the historical Golden Hill maintained political influence over their members as an autonomous entity. Deeds from the 17th century suggest the Pequannock sachems exercised political influence through consensus and consultation with other tribal members. Land transactions between the tribe and colonial authorities listed leaders and provided some information, from an external point of view, concerning the aboriginal political structure.

In 1761, the historical Golden Hill still had a sachem whom the Colony recognized as a leader. Since the Colony dealt with a group that had recognized leaders and the evidence documents the group acting in concert to exercise political influence, the petitioner meets 83.7(c) from 1637 to 1761 for the historical Golden Hill.

For the period from 1761 to 1802, the petitioner presented sufficient evidence that the historical Golden Hill Indians maintained political influence over the group's members as an autonomous entity. The last sachem, John Shoran, died in 1761. There is sufficient evidence in the form of protests against encroachments on the Golden Hill reservation by non-Indians to demonstrate that a very small group of Indians continued to display some measure of political influence or authority. The evidence consists mainly of petitions to the General Court (later General Assembly) and official government reports from 1763 to 1765, 1774 to 1780, and 1797 to 1802. The set of petitions from 1797 to 1802 documented the historical Golden Hill's approval of the sale of the last portions of the historical Golden Hill reservation, located in modern-day Bridgeport. Similar petitions have been accepted in previous acknowledgment decisions as sufficient evidence regarding political influence. Therefore, this evidence is sufficient to meet 83.7(c) from 1761 to 1802 for the historical Golden Hill.

The evidence does not demonstrate that there was an identifiable Golden Hill entity that maintained political influence among its members from 1802 to 1933. After the sale of the Bridgeport reservation in 1802, there were no further actions taken by a group as a political entity. There is no person identified in any official State reports as a sachem or leader after the death of John Shoran in 1761. After 1802, there were no further group petitions. The two petitions filed by Ruby Mansfield and Nancy Sharp alias Pease do not demonstrate influence or authority over a group because the two women petitioned as individuals and as “sole surviving heirs” of the Golden Hill Indians, not as representatives of a group or tribe. The petitioner maintains that William Sherman functioned as a leader during his lifetime (1825-1886). The evidence, however, does not demonstrate that he actually functioned as a leader of an identifiable Golden Hill group. The petitioner also claims that William Sherman's son, George Sherman, functioned as a leader in the late 19th and early 20th centuries. While George Sherman was referred to in some newspaper articles as a “chief,” there is no documentation available to show that any identifiable group acknowledged his authority or that he acted on any group's behalf. Therefore, the petitioner has not demonstrated political influence and authority for 1802 to 1933.

The material submitted to demonstrate political influence or authority from 1933 until 1972 does not meet the requirements of criterion 83.7(c). In 1933, George Sherman's daughter, Ethel Sherman, began referring to herself as a “Chieftess.” However, there is no available evidence to support the claim as anything more than self-identification. There is no evidence to indicate that Ethel Sherman was able to gather a number of people together or access any money or resources from them for group purposes. There is also no evidence submitted to demonstrate that her position came about as part of any group consensus. An analysis of the early and mid-20th century documents indicates that the individuals whom the petitioner now credits as political leaders were acting to guarantee individual interests, not those of any wider group. In order to overcome this deficiency, the petitioner must produce evidence of leaders acting in the interests of an identifiable group that extends beyond an individual or one branch of one family.

For the period 1972 to the present, the petitioner submitted a considerable amount of evidence relating to the activities of Aurelius Piper, Sr. The record indicates that he was the first person since 1761 acknowledged by the State as exercising political leadership within a group of individuals claiming to be Golden Hill group members.

The petitioner submitted notices of group meetings for the late 1970's and early 1980's, informing members of upcoming events and requesting their participation. The minutes of these meetings indicate there were low levels of participation by the group's members. The available evidence does not demonstrate that the issues important to Aurelius Piper, Sr. concerned or involved a predominant portion of the group. Much of the evidence for political influence for the late 1980's and early 1990's focused mostly on leadership disputes between Aurelius Piper, Sr. and his two sons, with occasional references to the involvement of two of his half-nephews. Even during the 1970's and 1980's when the GHP was most active, the actions taken were by a small number of individuals without broad representation across any family lines. It is not demonstrated that the actions of the leaders, who were either self-appointed or appointed by close family members, reflected the concerns of a significant number of the group's members. To demonstrate political influence or authority, the petitioner must demonstrate more than a minimal level of involvement from most members of the group. Therefore, the petitioner has not provided sufficient evidence to demonstrate political influence or authority for the period from 1972 to the present. Accordingly, the petitioner has not met the requirements of criterion 83.7(c) from 1637 to the present.

The State has recognized a Golden Hill entity from colonial times to the present. Within the general parameters of Connecticut's laws regarding State-recognized tribes, the specifics of its tribal dealings differed from group to group. The historical Golden Hill had a State reservation from colonial times to 1802. The State established the group's present 1/4 acre reservation, located in Trumbull, not the original reservation land area of Bridgeport, in 1933. From the early 1800's to the 1970's, however, the State did not identify or deal with specific leaders of the group.

While State recognition and the existence of a State reservation can provide additional evidence to be weighed in combination with other specific evidence, State recognition in itself is not sufficient evidence to meet criteria 83.7(b) and (c). The particular relationship of the State to the GHP group, in combination with existing direct evidence for community and political process is so limited, that is not sufficient evidence to demonstrate that these two criteria are met.

The petitioner meets the requirements of criterion 83.7(d) because it has submitted a governing document, including a description of its membership criteria.

The petitioner does not meet criterion 83.7(e)(1) because the petitioner has not submitted evidence acceptable to the Secretary that its membership consists of individuals who descend from a historical Indian tribe or tribes that combined. There is no evidence in the record that the petitioner's claimed ancestors, William Sherman, Levi Allen and Delia Merrick, descended from a historical Indian tribe or tribes that amalgamated and functioned as a single entity. The evidence does not show that William Sherman descended from any person identified on the 1823 Census of the historical Golden Hill, or from either Ruby Mansfield or from Nancy Sharpe alias Pease, who were identified in historical State records in 1841, 1846, and 1849 as Golden Hill Indians and whom the petitioner claims were the ancestors of William Sherman.

There is no documentation in the record to verify that William Sherman or any of his children married Golden Hill, Pequannock, Paugussett, Turkey Hill, or other Indians; therefore, that portion of the membership claiming descent from William Sherman does not demonstrate Indian ancestry through any other possible Indian ancestors. Neither is there documentation in the record to verify that names recently added to the GHP membership list, who claim descent from Levi Allen and Delia Merrick, have Indian ancestry linked to any of these tribes.

The petitioner does not meet criterion 83.7(e)(2). The October 1, 1999, membership list of 214 names was used for this report. However, it was not separately certified by the governing body, and did not include each member's full name (and maiden name), date of birth, and residential address, as required by the regulations. Although the GHP group submitted several membership lists, none are sufficient to meet the criterion. The petitioner may correct this deficiency by resubmitting a properly completed membership list that is certified by the entire governing body of the group. None of the persons listed on petitioner's most recent membership list (October 1, 1999) have demonstrated descent from members of the historical tribe(s) listed in petitioner's membership criteria.

The petitioner meets criterion 83.7(f) because its members are not enrolled in other Federally recognized tribes, and criterion 83.7(g) because the group or its members have not been the subject of congressional legislation that has expressly terminated or forbidden the Federal relationship.

The evidence available for this proposed finding demonstrates that the GHP group does not meet all seven criteria required for Federal acknowledgment. In accordance with the regulations, failure to meet any one of the seven criteria requires a determination that the group does not exist as an Indian tribe within the meaning of Federal law (83.6(c), 83.10(m)).

A copy of this proposed finding, which summarizes the evidence, reasoning, and analyses that are the basis for decision, is available upon written request (83.10(h)).

During the 180-day comment period (83.10(i)), the AS-IA shall provide technical advice concerning the proposed finding and shall make available to the petitioner in a timely fashion any records used for the proposed finding not already held by the petitioner, to the extent allowable by Federal law (83.10(j)(1)). In addition, the AS-IA shall, if requested by the petitioner or any interested party, hold a formal meeting for the purpose of inquiring into the reasoning, analyses, and factual bases for the proposed finding. The proceedings of this meeting shall be on the record. The meeting record shall be available to any participating party and become part of the record considered by the AS-IA in reaching a final determination (83.10(j)(2)).

If third party comments are received during the comment period, the petitioner shall have a minimum of 60 days to respond to these comments. This period may be extended at the AS-IA's discretion if warranted by the extent and nature of the comments (83.10(k)).

At the end of the comment and response periods, the AS-IA shall consult with the petitioner and interested parties to determine an equitable time frame for consideration of written arguments and evidence submitted during the comment and response periods, and notify the petitioner and interested parties of the date such consideration begins (83.10(l)). The AS-IA has the discretion to request additional information from the petitioner or commenting parties, and to conduct additional research (83.10(l)(1)). After consideration of the written arguments and evidence submitted during the comment period and the petitioner's response to the comments, the AS-IA shall make a final determination regarding the petitioner's status. A summary of the final determination will be published in the Federal Register (83.10(l)(2)).

Dated: January 21, 2003.
Aurene M. Martin,
Acting Assistant Secretary—Indian Affairs.

[FR Doc. 03-2044 Filed 1-28-03; 8:45 am]

BILLING CODE 4310-4J-P